DEPARTMENT OF COMMERCE

Bureau of Industry and Security

Information Systems Technical Advisory Committee

AGENCY: Bureau of Industry and Security, U.S. Department of Commerce.

ACTION: Notice of partially closed meeting.

SUMMARY: The Information Systems Technical Advisory Committee (ISTAC) advises and assists the Secretary of Commerce and other Federal officials on matters related to export control policies; the ISTAC will meet on August 27-28, 2025, to review and discuss these matters. This meeting will be partially closed to the public pursuant to the exemptions under the Federal Advisory Committee Act (FACA) and the Government in the Sunshine Act.

DATES: The meeting will be held on August 27, 2025, from 9:00 a.m. to 4:00 p.m. Eastern Time (all times are Eastern Time), and on August 28, 2025, from 9:00 a.m. to 12:00 p.m. Specifically, on August 27, 2025, the open session will start at 9:00 a.m. and end at approximately 9:40 a.m.; the closed session will start at approximately 10:15 a.m. and end no later than 4:00 p.m. On August 28, 2025, there will be no open session; the closed session will start at approximately 9:00 a.m. and end at approximately 12:00 p.m. Individuals requiring special accommodations to access the open session on August 27, 2025, should contact TAC@bis.doc.gov no later than 11:59 p.m. on August 20, 2025, so that BIS can make the appropriate arrangements. Individuals interested in participating virtually should contact TAC@bis.doc.gov no later than 11:59 p.m. on August 24, 2025.

ADDRESSES: The open session will be held virtually; the closed session will be held at the Herbert C. Hoover Building, 1401 Constitution Avenue NW, Washington, DC. The open session will be accessible to the public via teleconference.

FOR FURTHER INFORMATION CONTACT: Kevin Coyne, Committee Liaison Officer, Bureau of Industry and Security, U.S. Department of Commerce. For additional information, contact TAC@bis.doc.gov or by phone 202-482-4933.

SUPPLEMENTARY INFORMATION:

Background

The Information Systems Technical Advisory Committee (ISTAC) advises and assists the Secretary of Commerce (Secretary) and other Federal officials and agencies with respect to actions designed to carry out the policy set forth in Section 1752 of the Export Control Reform Act. The purpose of the meeting is to have Committee members and U.S. Government representatives mutually review updated technical data and policy-driving information that has been gathered.

Agenda

The open session will include open business discussions and/or industry presentations. The closed session will include the discussion of matters determined to be exempt from the open meeting consistent with the public participation requirements in Sections 1009(a)(1) and 1009(a)(3) of the Federal Advisory Committee Act (FACA) (5 U.S.C. 1001-1014). The exemption is authorized by Section 1009(d) of the FACA, which permits the closure of advisory committee meetings, or portions thereof, if the head of the agency to which the advisory committee reports determines such meetings may be closed to the public in accordance with subsection (c) of the Government in the Sunshine Act (5 U.S.C. 552b(c)). In this case, the applicable provisions of 5 U.S.C. 552b(c) are subsection 552b(c)(4), which permits closure to protect trade secrets and commercial or financial information that is privileged or confidential, and subsection 552b(c)(9)(B), which permits closure to protect information that would be likely to disclose information the premature disclosure of which would be likely to significantly frustrate the implementation of a proposed agency action. The closed session of the meeting will involve committee discussions and guidance regarding U.S. Government strategies and policies.

Open Session Attendance

The open session will be accessible via teleconference. Registration in advance is required to receive the meeting invite for virtual attendance. Individuals interested in participating virtually should contact TAC@bis.doc.gov no later than 11:59 p.m. Eastern Time on August 24, 2025.

Special Accommodations

Individuals requiring special accommodations to access the open session virtually should contact TAC@bis.doc.gov no later than 11:59 p.m. Eastern Time on August 20, 2025, so that appropriate arrangements can be made.

Public Participation

To the extent that time permits, members of the public may present oral statements to the ISTAC. The public may also submit written statements at any time before or after the meeting. However, to facilitate the distribution of materials to the ISTAC members, written materials should be submitted to TAC@bis.doc.gov prior to the start of the meeting. All such materials submitted will be made public and, therefore, should not contain confidential information. Meeting materials from the open session will be posted to the Technical Advisory Committee (TAC) site (https://tac.bis.doc.gov) within 30 days after the meeting.

Closure Determination

The Acting Chief Financial Officer and Assistant Secretary for Administration, with the concurrence of the delegate of the General Counsel, formally determined pursuant to 5 U.S.C. 1009(d), that the portion of the meeting dealing with pre-decisional changes to the Commerce Control List and the U.S. export control policies shall be exempt from the provisions relating to public meetings found in 5 U.S.C. 1009(a)(1) and 1009(a)(3). The remaining portions of the meeting will be open to the public.

Meeting Cancellation

If the meeting is cancelled, a cancellation notice will be posted on the TAC website at https://tac.bis.doc.gov.

Kevin Coyne,
Committee Liaison Officer.

[FR Doc. 2025-15195 Filed 8-8-25; 8:45 am]

BILLING CODE 3510-JT-P